DEPARTMENT OF AGRICULTURE

Submission for OMB Review; Comment Request

November 28, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by January 3, 2013 will be considered. Written comments should be addressed to: Desk Officer for Agriculture, Office of Information and Regulatory Affairs, Office of Management and Budget (OMB), New Executive Office Building, 725-17th Street NW., Washington, DC, 20503. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Residue and Biomass Field Survey.

OMB Control Number: 0535-NEW.

Summary of Collection: The primary function of the National Agricultural Statistics Service (NASS) is to prepare and issue official State and national estimates of crop and livestock production, disposition and prices. The purpose of this collection is for NASS and the Agricultural Research Service/Hydrology and Remote Sensing Laboratory to make an objective connection between the amounts of organic matter produced and how crop residues impact future crop yields. General authority for these data collection activities is granted under U.S. Code Title 7, Section 2204(a) which specifies that “The Secretary of Agriculture shall procure and preserve all information concerning agriculture which he can obtain * * * by the collection of statistics * * * and shall distribute them among agriculturists.” Individually identifiable data collected under this authority are governed by Section 1770 of the Food Security Act of 1985 as amended, 7 U.S.C. 2276, which requires USDA to afford strict confidentiality to non-aggregated data provided by respondents.

Need and Use of the Information: This study will investigate the effect crop residue removal has on soil and water quality. The study will use, as a sampling universe fields in the South Fork watershed in central Iowa. The study will be conducted in several phases. Permission forms will be presented to farm operators. With the farmers permission the field enumerators will return several times during the growing season to measure and collect samples from the target areas. Measurements of crop residues will be compared with remote sensed data to measure crop residue cover and soil tillage intensity for the entire watershed. After measurements and samples are taken the farm operators will be asked to complete a questionnaire and, if possible provide a yield map. The questionnaire and yield maps help associate measured residue and biomass to specific field management plans and provide realistic operation files for the water and soil quality models. Without this collection, our knowledge of the management practices in the watershed would be severely limited.

Description of Respondents: Business or other for-profit; Farms.

Number of Respondents: 100.

Frequency of Responses: Reporting: One time.

Total Burden Hours: 52.

Charlene Parker,
Departmental Information Collection Clearance Officer.

[FR Doc. 2012-29162 Filed 12-3-12; 8:45 am]

BILLING CODE 3410-20-P